DEPARTMENT OF AGRICULTURE

Animal and Plant Health Inspection Service

9 CFR Parts 2 and 3

[Docket No. 98-106-5]

RIN 0579-AB69

Animal Welfare; Regulations and Standards for Birds, Rats, and Mice

AGENCY: Animal and Plant Health Inspection Service, USDA.

ACTION: Advance notice of proposed rulemaking; extension of comment period.

SUMMARY: We are extending the comment period for our advance notice of proposed rulemaking regarding several changes we are considering to the Animal Welfare Act (AWA) regulations to help promote the humane handling, care, treatment, and transportation of birds, rats, and mice not specifically excluded from coverage under the AWA. This action will allow interested persons additional time to prepare and submit comments.

DATES: We will consider all comments that we receive on or before November 1, 2004.

ADDRESSES: You may submit comments by any of the following methods:

• Webform: The preferred method is to use the webform located at http://comments.aphis.usda.gov. This webform is designed to allow commenters to associate each of their comments with the issues identified in the advance notice, and to allow APHIS to more easily analyze the comments received regarding each issue.

• Postal Mail/Commercial Delivery: Please send four copies of your comment (an original and three copies) to Docket No. 98-106-4, Regulatory Analysis and Development, PPD, APHIS, Station 3C71, 4700 River Road Unit 118, Riverdale, MD 20737-1238. Please state that your comment refers to Docket No. 98-106-4.

• E-mail: Address your comment to regulations@aphis.usda.gov. Your comment must be contained in the body of your message; do not send attached files. Please include your name and address in your message and “Docket No. 98-106-4” on the subject line.

• Federal eRulemaking Portal: Go to http://www.regulations.gov and follow the instructions for locating this docket and submitting comments.

Reading Room: You may read any comments that we receive on Docket No. 98-106-4 in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: You may view APHIS documents published in the Federal Register and related information, including the names of groups and individuals who have commented on APHIS dockets, on the Internet at http://www.aphis.usda.gov/ppd/rad/webrepor.html.

FOR FURTHER INFORMATION CONTACT: Dr. Jerry DePoyster, Senior Veterinary Medical Officer, Animal Care, APHIS, 4700 River Road Unit 84, Riverdale, MD 20737-1234; (301) 734-7586.

SUPPLEMENTARY INFORMATION: On June 4, 2004, we published in the Federal Register (69 FR 31537-31541, Docket No. 98-106-4) an advance notice of proposed rulemaking regarding several changes we are considering to the Animal Welfare Act (AWA) regulations in 9 CFR parts 2 and 3 to help promote the humane handling, care, treatment, and transportation of birds, rats, and mice not specifically excluded from coverage under the AWA.

Comments on the advance notice of proposed rulemaking were required to be received on or before August 3, 2004. We are extending the comment period on Docket No. 98-106-4 for an additional 90 days. This action will allow interested persons additional time to prepare and submit comments.

Authority: 7 U.S.C. 2131-2159; 7 CFR 2.22, 2.80, and 371.7.

Done in Washington, DC, this 15th day of July, 2004.
Kevin Shea,
Acting Administrator, Animal and Plant Health Inspection Service.

[FR Doc. 04-16541 Filed 7-20-04; 8:45 am]

BILLING CODE 3410-34-P